FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Trimex Group, Incorporated dba Trimex, Logistics, Inc. & Trimex International, Inc., 28312 Industrial Blvd., Suite C, Hayward, CA 94545. Officers: Kab Young Lee, Vice President, (Qualifying Individual); Edward S. Park, President.

Societe Monegasque de Transports Maritimes, (Somotransma) dba Uni Container Line (UCL), 14 Avenue Crovetto, 98000 Monaco. Officers: Claudie Ballestra, Manager, (Qualifying Individual); Edmond Ruelle, Administrator.

Intertech Associates (Atlantic) LLC, dba I. T. Logistics, 52 Poplar Avenue, Fair Haven, NJ 07704. Officers: Yong Zhao, Vice President, (Qualifying Individual); John Knapp, President.

Benison Trans, Corp., 325 W. 38th Street, #202, New York, NY 10019. Officers: Inho Cho, President, (Qualifying Individual); OK Y. Kim, Secretary.

American Global Forwarding, LLC, 125 NE., 9th Street, Miami, FL 33132. Officers: Richard G. Rovirosa, Managing Partner, (Qualifying Individual); Frank V. Rovirosa, Managing Partner.

ACX Logistics, Inc., 9133 S. La Cienega Blvd., #260, Inglewood, CA 90301. Officer: Tsu-Wei Lin, President, (Qualifying Individual).

Non-Vessel Operating Common Carrier and Ocean Freight Forwarder Transportation Intermediary Applicants

VSH-United (U.S.A.) L.L.C., 8055 N.W. 77th Court, Suite #3, Medley, FL 33166. Officers: Jeanine M. Liong-A-San, Office Manager, (Qualifying Individual); Patrick Healy, Manager.

Universal Logistics Inc., 145-32 157th Street, Jamaica, NY 11434. Officers: Ming Wong, President, (Qualifying Individual).

Ocean Freight Forwarder—Ocean Transportation Intermediary Applicants

LCL America Inc., 29 Burgess Drive, Glendale Heights, IL 60139. Officers: Kathleen A. Marston, Vice President, (Qualifying Individual); Clayton D. Lyman, President.

Dated: June 21, 2002.
Bryant L. VanBrakle,
Secretary.

[FR Doc. 02-16205 Filed 6-26-02; 8:45 am]

BILLING CODE 6730-01-P